DEPARTMENT OF LABOR

Employment and Training Administration

[TA-W-37,240]

Chevron Products Company, Roosevelt, UT; Notice of Revised Determination on Reopening

The Department of Labor reopened the petition investigation for workers of the subject firm.

The TAA petition filed with the Department on behalf of workers of Chevron Products Company, Roosevelt, Utah, was initiated on February 4, 2000. The petition investigation concluded that the subject firm did not produce an article and therefore its workers were not eligible for certification. The negative determination was issued on February 17, 2000, and published in the Federal Register on March 17, 2000 (65 FR 14627).

However, the Department determines on reopening that because Chevron Products Company, Roosevelt, Utah is affiliated with Chevron USA Production Company (as both are wholly owned subsidiaries of Chevron USA, Inc.) the Department finds the two firms constituted an integrated production process, the final products of which are crude oil and natural gas.

The Department, on July 6, 1999, issued a certification of eligibility for workers of Chevron USA Production Company in Utah, to apply for trade adjustment assistance (TA-W-36,295I). That certification was supported by increased company imports of crude oil in January-March 1999 compared to the same time period of 1998. Therefore, the Department certifies the Chevron Products, Roosevelt, Utah, workers as eligible for assistance under TAA.

The same worker group had been denied eligibility to apply for NAFTA-TAA under petition number NAFTA-3854. The United States Court of International Trade (USCIT) remanded for further investigation the Secretary of Labor's negative NAFTA-TAA determination in Former Employees of Chevron Products Company v. U.S. Secretary of Labor (00-08-00409). Further investigation in that remand resulted in a negative decision. The USCIT again remanded that petition denial for further investigation and ordered the Department to again consider whether the workers lost their jobs because of increased imports and whether the Chevron Products Company workers could be determined eligible for NAFTA-TAA as Secondarily Affected under the “Statement of Administrative Action.”

Although we conducted an additional investigation about whether the Chevron Products workers were production workers, we believe that our decision that Chevron Products is an appropriate subdivision of Chevron USA moots both that inquiry and the inquiry into whether the workers qualify as secondary workers under the Statement of Administrative Action. Since the workers were a part of a firm which produces an article, crude oil, under Labor's existing rules, the characterization of the workers as production or service workers becomes irrelevant because that distinction only arises in cases where the workers are employed by separate firms or there are subdivisions within the firm that produce articles that are separately identifiable. Similarly, since the workers are part of the firm that produced the article, they cannot be secondary workers, who, by definition, are employed by separate firms.

Conclusion

After careful consideration on reopening, it is concluded that increased imports of articles like or directly competitive with crude oil produced by Chevron USA Production and its affiliate Chevron Products Company, Roosevelt, Utah, contributed importantly to the decline in sales or production and to the total or partial separation of workers of the subject firm.

In accordance with the provisions of the Trade Act of 1974, I make the following revised determination:

“All workers of Chevron Products Company, Roosevelt, Utah, who became totally or partially separated from employment on or after January 4, 1999, through two years from the date of certification, are eligible to apply for adjustment assistance under Section 223 of the Trade Act of 1974.”

Signed in Washington, DC, this 25th day of September 2003.
Linda G. Poole,
Certifying Officer, Division of Trade Adjustment Assistance.

[FR Doc. 03-25726 Filed 10-9-03; 8:45 am]

BILLING CODE 4510-30-P